DEPARTMENT OF TRANSPORTATION

Federal Aviation Administration

14 CFR Part 39

[Docket No. FAA-2015-0490; Directorate Identifier 2014-NM-018-AD; Amendment 39-18322; AD 2015-23-06]

RIN 2120-AA64

Airworthiness Directives; Airbus Airplanes

AGENCY: Federal Aviation Administration (FAA), Department of Transportation (DOT).

ACTION: Final rule.

SUMMARY: We are superseding Airworthiness Directive (AD) 2008-22-20 for certain Airbus Model A330-200, A330-300, and A340-300 series airplanes. AD 2008-22-20 required repetitive high frequency eddy current (HFEC) inspections for cracking, repair if necessary, and modification of the upper shell structure of the fuselage. This new AD shortens certain compliance times. This AD was prompted by a determination from a fatigue and damage tolerance evaluation that the compliance times must be reduced. We are issuing this AD to prevent fatigue cracking of the upper shell structure of the fuselage, which could result in reduced structural integrity of the airplane.

DATES: This AD becomes effective December 29, 2015.

The Director of the Federal Register approved the incorporation by reference of certain publications listed in this AD as of December 29, 2015.

The Director of the Federal Register approved the incorporation by reference of certain other publications listed in this AD as of December 17, 2008 (73 FR 66747, November 12, 2008).

ADDRESSES: You may examine the AD docket on the Internet at http://www.regulations.gov/#!docketDetail;

D=FAA-2015-0490; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-0490.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2008-22-20, Amendment 39-15717 (73 FR 66747, November 12, 2008). AD 2008-22-20 applied to certain Airbus Model A330-200, A330-300, and A340-300 series airplanes. The NPRM published in the Federal Register on March 17, 2015 (80 FR 13799). The NPRM was prompted by a determination from a fatigue and damage tolerance evaluation that the compliance times must be reduced. The NPRM also proposed to shorten certain compliance times. We are issuing this AD to prevent fatigue cracking of the upper shell structure of the fuselage, which could result in reduced structural integrity of the airplane.

The European Aviation Safety Agency (EASA), which is the Technical Agent for the Member States of the European Union, has issued EASA Airworthiness Directive 2014-0012R1, dated January 24, 2014 (referred to after this as the Mandatory Continuing Airworthiness Information, or “the MCAI”), to correct an unsafe condition for certain Airbus Model A330-200, A330-300, and A340-300 series airplanes. The MCAI states:

During fatigue tests (EF3) on the A340-600, damage was found in the longitudinal doubler at the Vertical Tail Plane (VTP) attachment cut out between Frame (FR) 80 and FR86. This damage occurred between 58,341 and 72,891 simulated flight cycles (FC).

Due to the higher Design Service Goal and different design of the affected structural area (e.g. doubler thickness) for A330-200/-300 and A340-300 airplane series, the damage assessment concluded that these airplanes may be also potentially affected.

This condition, if not detected and corrected, could affect the structural integrity of the upper shell structure between FR80 and FR86.

Prompted by these findings, EASA issued AD 2007-0284 [(http://ad.easa.europa.eu/blob/easa_ad_2007_0284_superseded.pdf/AD_2007-0284_1)] to require implementation of an inspection programme of this structural area using a high frequency eddy current (HFEC) method and a modification to improve the upper shell structure.

Since that [EASA] AD was issued, in the frame of a new fatigue and damage tolerance evaluation, taking into account the airplane utilisation, the inspection threshold and intervals have been reassessed and the conclusion was that the thresholds and intervals for inspection, as well as the threshold for modifying the airplane, must be reduced.

For the reason described above, this [EASA] AD retains the requirements of EASA AD 2007-0284, which is superseded and introduces redefined thresholds and intervals.

This [EASA] AD is revised to clarify that, under some conditions, accomplishment of a repair constitutes terminating action for the repetitive inspections. One of the outcome of this clarification is the deletion of paragraph (5) of this [EASA] AD.

You may examine the MCAI in the AD docket on the Internet at http://www.regulations.gov/#!documentDetail;D=FAA-2015-0490-0002.

Comments

We gave the public the opportunity to participate in developing this AD. The following presents the comments received on the NPRM (80 FR 13799, March 17, 2015) and the FAA's response to each comment.

Support for the NPRM (80 FR 13799, March 17, 2015)

An anonymous commenter agreed with the safety benefit provided by the NPRM (80 FR 13799, March 17, 2015).

Request for Revise Cost

Delta requested that we revise the NPRM (80 FR 13799, March 17, 2015) to relay the heavy impact of accomplishing Airbus Service Bulletin A330-53-3160, Revision 03, dated January 6, 2012. Delta explained that the modification specified in Airbus Service Bulletin A330-53-3160, Revision 03, dated January 6, 2012, requires removal of the vertical stabilizer and the aft galley, which can heavily impact the operation. Delta reasoned that it has consulted with its maintenance organization and it is estimated to take 400 work-hours instead of 208 work-hours.

We disagree with the request to revise this AD. We made the cost estimate based on the information provided in Airbus Service Bulletin A330-53-3160, Revision 03, dated January 6, 2012. The required work-hours defined in Airbus Service Bulletin A330-53-3160, Revision 03, dated January 6, 2012, are based on the direct labor cost to do the work. The need to remove and reinstall the aft galley depends on the airplane interior configuration and may differ from operator to operator. We are unable to determine all possible interior configurations and thus determine the maximum work-hours which may be required for any specific configuration. This estimate assumes that the work will be done by experienced personnel, and may need to be revised upwards to suit an operator's circumstances. The estimate does not include the time to prepare, plan, or inspect the work. We have made no changes to this AD in this regard.

Conclusion

We reviewed the available data and determined that air safety and the public interest require adopting this AD as proposed except for minor editorial changes. We have determined that these minor changes:

• Are consistent with the intent that was proposed in the NPRM (80 FR 13799, March 17, 2015) for correcting the unsafe condition; and

• Do not add any additional burden upon the public than was already proposed in the NPRM (80 FR 13799, March 17, 2015).

Related Service Information Under 1 CFR Part 51

Airbus has issued the following service information.

• Airbus Service Bulletin A330-53-3159, Revision 02, dated March 29, 2010, describes procedures for a modification of the fuselage, which includes inspections (e.g., eddy current rotating probe test of fastener holes for cracking, high frequency eddy current (HFEC) inspections for cracking of the upper shell structure of the fuselage, and checks of the fastener position for clearance) and applicable corrective actions (e.g., repair and rework).

• Airbus Service Bulletin A330-53-3160, Revision 03, dated January 6, 2012, describes procedures for applicable actions, including an eddy current rotating probe test for cracking of the fastener holes and an HFEC inspection for cracks in the upper shell of the fuselage (and including checks of the fastener position for clearance and applicable corrective actions (e.g., repair and rework)), and a modification of the airplane upper shell structure of the fuselage between FR80 and FR86.

• Airbus Service Bulletin A330-53-3168, Revision 02, dated December 21, 2011, describes procedures for a HFEC inspection for cracking of the upper shell structure of the fuselage between FR80 and FR86.

• Airbus Service Bulletin A340-53-4165, Revision 02, dated March 29, 2010, describes procedures for a modification of the fuselage, which includes inspections (e.g., eddy current rotating probe test of fastener holes for cracking, HFEC inspections for cracking of the upper shell structure of the fuselage, and checks of the fastener position for clearance) and applicable corrective actions (e.g., repair and rework).

• Airbus Service Bulletin A340-53-4172, Revision 01, dated July 8, 2009, describes procedures for inspections (e.g., rototest inspections of fastener holes for cracking, HFEC inspections for cracking of the upper shell structure of the fuselage, and checks of the fastener position for clearance) and modification of the airplane upper shell structure between FR80 and FR86 (including applicable corrective actions (e.g., repair and rework).

• Airbus Service Bulletin A340-53-4174, Revision 02, dated December 21, 2011, describes procedures for a HFEC inspection for cracking of the upper shell structure of the fuselage between FR80 and FR86.

This service information is reasonably available because the interested parties have access to it through their normal course of business or by the means identified in the ADDRESSES section of this AD.

Costs of Compliance

We estimate that this AD affects 26 airplanes of U.S. registry. We also estimate that it will take about 208 work-hours per product to comply with the basic requirements (inspection and modification) of this AD. The average labor rate is $85 per work-hour. Required parts will cost about $28,360 per product. Based on these figures, we estimate the cost of this AD on U.S. operators to be $1,197,040, or $46,040 per product.

We have received no definitive data that will enable us to provide cost estimates for the on-condition actions specified in this AD.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-0490; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-22-20, Amendment 39-15717 (73 FR 66747, November 12, 2008), and adding the following new AD:

2015-23-06 Airbus: Amendment 39-18322. Docket No. FAA-2015-0490; Directorate Identifier 2014-NM-018-AD.

(a) Effective Date

This AD becomes effective December 29, 2015.

(b) Affected ADs

This AD replaces AD 2008-22-20, Amendment 39-15717 (73 FR 66747, November 12, 2008).

(c) Applicability

This AD applies to Airbus Model A330-201, -202, -203, -223, -243, -301, -302, -303, -321, -322, -323, -341, -342, and -343 airplanes; and Model A340-311, -312, and -313 airplanes; certificated in any category; all manufacturer serial numbers on which Airbus Modification 44205 has been embodied in production, except those on which Airbus Modification 52974 or 53223 has been embodied in production.

(d) Subject

Air Transport Association (ATA) of America Code 53, Fuselage.

(e) Reason

This AD was prompted by the results of a fatigue and damage tolerance evaluation that concluded existing compliance times must be reduced. We are issuing this AD to prevent fatigue cracking of the upper shell structure of the fuselage, which could result in reduced structural integrity of the airplane.

(f) Compliance

Comply with this AD within the compliance times specified, unless already done.

(g) Inspection for Airbus Model A330-300 and A340-300 Airplanes, Except Model A340-300 Weight Variant (WV) 027 Airplanes

For Model A330-300 and A340-300 airplanes, except Model A340-300 WV 027 airplanes: At the applicable time specified in paragraph (g)(1) or (g)(2) of this AD, do a high frequency eddy current (HFEC) inspection for cracking of the upper shell structure between frame (FR) 80 and FR86, in accordance with the Accomplishment Instructions of Airbus Service Bulletin A330-53-3168, Revision 02, dated December 21, 2011; or Airbus Service Bulletin A340-53-4174, Revision 02, dated December 21, 2011; as applicable. Repeat the inspection thereafter at the applicable time specified in paragraph 1.E., “COMPLIANCE,” of Airbus Service Bulletin A330-53-3168, Revision 02, dated December 21, 2011; or Airbus Service Bulletin A340-53-4174, Revision 02, dated December 21, 2011; as applicable.

(1) For airplanes that, as of the effective date of this AD, have not been inspected in accordance with Airbus Service Bulletin A330-53-3168; or Airbus Service Bulletin A340-53-4174; as applicable: Inspect at the later of the times specified in paragraphs (g)(1)(i) and (g)(1)(ii) of this AD.

(i) Before reaching the applicable threshold specified in paragraph 1.E., “COMPLIANCE,” of Airbus Service Bulletin A330-53-3168, Revision 02, dated December 21, 2011; or Airbus Service Bulletin A340-53-4174, Revision 02, dated December 21, 2011; as applicable for airplane model, configuration, and utilization, since the airplane's first flight.

(ii) Within the threshold defined in paragraph 1.E, “COMPLIANCE,” of Airbus Service Bulletin A330-53-3168, Revision 01, dated February 15, 2008; or Airbus Service Bulletin A340-53-4174, Revision 01, dated February 15, 2008; as applicable for airplane model, configuration, and utilization since the airplane's first flight; or within 12 months after the effective date of this AD; whichever occurs first.

(2) For airplanes that, as of the effective date of this AD, have been inspected in accordance with Airbus Service Bulletin A330-53-3168; or Airbus Service Bulletin A340-53-4174; as applicable: Inspect at the later of the times specified in paragraphs (g)(2)(i) and (g)(2)(ii) of this AD.

(i) Within the applicable interval specified in paragraph 1.E., “COMPLIANCE,” of Airbus Service Bulletin A330-53-3168, Revision 02, dated December 21, 2011; or Airbus Service Bulletin A340-53-4174, Revision 02, dated December 21, 2011; as applicable; to be counted from the last inspection.

(ii) Within 12 months after the effective date of this AD without exceeding the intervals defined in paragraph 1.E, “COMPLIANCE,” of Airbus Service Bulletin A330-53-3168, Revision 01, dated February 15, 2008; or Airbus Service Bulletin A340-53-4174, Revision 01, dated February 15, 2008; as applicable for airplane model, configuration, and utilization to be counted from the last inspection.

(h) Corrective Action for Airbus Model A330-300 and A340-300 Airplanes, Except Model A340-300 WV 027 Airplanes

If any crack is detected during any HFEC inspection required by the introductory text to paragraph (g) of this AD: Before further flight, repair using a method approved by the Manager, International Branch, ANM-116, Transport Airplane Directorate, FAA; or the European Aviation Safety Agency (EASA); or Airbus's EASA Design Organization Approval (DOA). Accomplishment of a repair for a specific area, as required by this paragraph, is terminating action for the repetitive HFEC inspections required by the introductory text to paragraph (g) of this AD, as applicable, for that specific repaired area only. The need and definition of subsequent repetitive inspections (if any) for that specific repaired area will be defined in the applicable repair method approved by the Manager, International Branch, ANM-116, Transport Airplane Directorate, FAA; or the European Aviation Safety Agency (EASA) or Airbus's EASA Design Organization Approval (DOA).

(i) Optional Terminating Action

For Airbus Model A330-300 and A340-300 airplanes, except Model A340-300 WV 027 airplanes: Modification, which includes inspections and applicable corrective actions, in accordance with the Accomplishment Instructions of Airbus Service Bulletin A330-53-3159, Revision 02, dated March 29, 2010; or Airbus Service Bulletin A340-53-4165, Revision 02, dated March 29, 2010; as applicable; terminates the repetitive HFEC inspections required by the introductory text to paragraph (g) of this AD, except where Airbus Service Bulletin A330-53-3159, Revision 02, dated March 29, 2010; or Airbus Service Bulletin A340-53-4165, Revision 02, dated March 29, 2010; as applicable; specifies to contact the manufacturer, repair using a method approved by the Manager, International Branch, ANM-116, Transport Airplane Directorate, FAA; or EASA; or Airbus's EASA DOA.

(j) Inspection and Modification for Airbus Model A330-200 Airplanes

Within the compliance times specified in paragraph (j)(1) or (j)(2) of this AD, whichever occurs later: Do all applicable actions, including an eddy current rotating probe test and an HFEC inspection for cracks, and modify the airplane upper shell structure between FR80 and FR86; in accordance with the Accomplishment Instructions of Airbus Service Bulletin A330-53-3160, Revision 03, dated January 6, 2012.

(1) Within the compliance times identified in paragraph 1.E., “COMPLIANCE,” of Airbus Service Bulletin A330-53-3160, Revision 03, dated January 6, 2012, as applicable for airplane configuration and utilization since the airplane's first flight.

(2) Within 12 months after the effective date of this AD without exceeding the threshold defined in paragraph 1.E, “COMPLIANCE,” of Airbus Service Bulletin A330-53-3160, Revision 02, dated March 29, 2010, since the airplane's first flight.

(k) Inspection and Modification for Airbus Model A340-300 Airplanes, Only WV 027

For Model A340-300 airplanes, WV 027 only: Before the accumulation of 14,200 total flight cycles from the airplane's first flight, do all applicable inspections and modify the airplane upper shell structure between FR80 and FR86; in accordance with the Accomplishment Instructions of Airbus Service Bulletin A340-53-4172, Revision 01, dated July 8, 2009.

(l) Corrective Action for Airbus Model A330-200 Airplanes; and Model A340-300 Airplanes, only WV 027

If any crack is detected during the inspection required by the introductory text to paragraph (j) of this AD, or paragraph (k) of this AD, before further flight, repair using a method approved by the Manager, International Branch, ANM-116, Transport Airplane Directorate, FAA; or EASA; or Airbus's EASA DOA; concurrently with modification required by paragraph the introductory text to paragraph (j) of this AD, or paragraph (k) of this AD.

(m) Definition of “Threshold” and “Interval”

(1) For the purposes of this AD, the term “Threshold,” as used in paragraph 1.E., “COMPLIANCE,” of the service information specified in paragraphs (m)(2)(i) through (m)(2)(vi) of this AD means the total flight cycles or flight hours accumulated since the airplane's first flight.

(2) For the purposes of this AD, the term “Interval” as used in paragraph 1.E., “COMPLIANCE,” of the service information specified in paragraphs (m)(2)(i) through (m)(2)(vi) of this AD means the total flight cycles or flight hours accumulated since the last inspection, as applicable.

(i) Airbus Service Bulletin A330-53-3168, dated September 19, 2007.

(ii) Airbus Service Bulletin A330-53-3168, Revision 01, dated February 15, 2008.

(iii) Airbus Service Bulletin A330-53-3168, Revision 02, dated December 21, 2011.

(iv) Airbus Service Bulletin A340-53-4174, dated September 19, 2007.

(v) Airbus Service Bulletin A340-53-4174, Revision 01, dated February 15, 2008.

(vi) Airbus Service Bulletin A340-53-4174, Revision 02, dated December 21, 2011.

(n) Credit for Previous Actions

(1) For Model A330-300 and A340-300 airplanes, except Model A340-300 WV 027 airplanes: This paragraph provides credit for the modification specified in paragraph (i) of this AD, if those actions were performed before the effective date of this AD using the service information identified in paragraph (n)(1)(i), (n)(1)(ii), (n)(1)(iii), or (n)(1)(iv) of this AD, as applicable. This service information is not incorporated by reference in this AD.

(i) Airbus Service Bulletin A330-53-3159, dated September 19, 2007.

(ii) Airbus Service Bulletin A330-53-3159, Revision 01, dated June 15, 2009.

(iii) Airbus Service Bulletin A340-53-4165, dated September 19, 2007.

(iv) Airbus Service Bulletin A340-53-4165, Revision 01, dated June 17, 2009.

(2) For Model A330-200 airplanes: This paragraph provides credit for the inspection and modification required by the introductory text to paragraph (j) of this AD, if those actions were performed before the effective date of this AD using the service information identified in paragraph (n)(2)(i), (n)(2)(ii), or (n)(2)(iii) of this AD, as applicable.

(i) Airbus Service Bulletin A330-53-3160, dated July 9, 2007, which was incorporated by reference in AD 2008-22-20, Amendment 39-15717 (73 FR 66747, November 12, 2008).

(ii) Airbus Service Bulletin A330-53-3160, Revision 01, dated April 28, 2009, which is not incorporated by reference in this AD.

(iii) Airbus Service Bulletin A330-53-3160, Revision 02, dated March 29, 2010, which is not incorporated by reference in this AD.

(3) For Model A340-300 airplanes, WV 027 only: This paragraph provides credit for the inspection and modification required by paragraph (k) of this AD, if those actions were performed before the effective date of this AD using Airbus Service Bulletin A340-53-4172, dated July 10, 2007, which is was incorporated by reference in AD 2008-22-20, Amendment 39-15717 (73 FR 66747, November 12, 2008).

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(p) Related Information

(1) Refer to Mandatory Continuing Airworthiness Information (MCAI) EASA Airworthiness Directive 2014-0012R1, dated January 24, 2014, for related information. This MCAI may be found in the AD docket on the Internet at http://www.regulations.gov by searching for and locating Docket No. FAA-2015-0490.

(2) Service information identified in this AD that is not incorporated by reference is available at the addresses specified in paragraphs (q)(3) and (q)(4) of this AD.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 29, 2015.

(i) Airbus Service Bulletin A330-53-3159, Revision 02, dated March 29, 2010.

(ii) Airbus Service Bulletin A330-53-3160, Revision 03, dated January 6, 2012.

(iii) Airbus Service Bulletin A330-53-3168, Revision 02, dated December 21, 2011.

(iv) Airbus Service Bulletin A340-53-4165, Revision 02, dated March 29, 2010.

(v) Airbus Service Bulletin A340-53-4172, Revision 01, dated July 8, 2009.

(vi) Airbus Service Bulletin A340-53-4174, Revision 02, dated December 21, 2011.

(4) The following service information was approved for IBR on December 17, 2008 (73 FR 66747, November 12, 2008).

(i) Airbus Service Bulletin A330-53-3168, Revision 01, dated February 15, 2008.

(ii) Airbus Service Bulletin A340-53-4174, Revision 01, dated February 15, 2008.

(5) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on October 30, 2015.
Michael Kaszycki,
Acting Manager, Transport Airplane Directorate, Aircraft Certification Service.

[FR Doc. 2015-28886 Filed 11-23-15; 8:45 am]

BILLING CODE 4910-13-P